DEPARTMENT OF THE INTERIOR

Fish and Wildlife Service

50 CFR Part 20

[Docket No. FWS-HQ-MB-2021-0057; FF09M30000-223-FXMB1231099BPP0]

RIN 1018-BF07

Migratory Bird Hunting; Proposed Migratory Bird Hunting Regulations on Certain Federal Indian Reservations and Ceded Lands for the 2022-23 Season

AGENCY: Fish and Wildlife Service, Interior.

ACTION: Proposed rule.

SUMMARY: The U.S. Fish and Wildlife Service (hereinafter, Service or we) proposes special migratory bird hunting regulations for certain Tribes on Federal Indian reservations, off-reservation trust lands, and ceded lands for the 2022-23 migratory bird hunting season. In issuing this proposed rule, we followed guidelines for establishing special migratory bird hunting regulations for Indian Tribes that recognize the reserved hunting rights and management authority of Indian Tribes while also ensuring that the migratory game bird resource receives necessary protection.

DATES:

Written Comments: You must submit comments on the proposed regulations by July 14, 2022.

Information Collection Requirements: If you wish to comment on the information collection requirements in this proposed rule, please send your comments and suggestions on this information collection by August 15, 2022.

ADDRESSES:

Written Comments: You may submit comments on the proposals by one of the following methods:

• Federal eRulemaking Portal: https://www.regulations.gov. Follow the instructions for submitting comments on Docket No. FWS-HQ-MB-2021-0057.

• U.S. Mail: Public Comments Processing, Attn: FWS-HQ-MB-2021-0057, U.S. Fish and Wildlife Service; MS: PRB (JAO/3W); 5275 Leesburg Pike, Falls Church, VA 22041-3803.

We will post all comments on https://www.regulations.gov. This generally means that we will post any personal information you provide us (see Public Comments, below, for more information).

Information Collection Requirements: Send your comments and suggestions on the information collection requirements to the Service Information Collection Clearance Officer, U.S. Fish and Wildlife Service, 5275 Leesburg Pike, MS: PRB (JAO/3W), Falls Church, VA 22041-3803 (mail); or Info_Coll@fws.gov (email). Please reference OMB Control Number 1018-0171 in the subject line of your comments.

FOR FURTHER INFORMATION CONTACT: Jerome Ford, U.S. Fish and Wildlife Service, Department of the Interior, (202) 208-1050. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Migratory game birds are those bird species so designated in conventions between the United States and several foreign nations for the protection and management of these birds. Under the Migratory Bird Treaty Act (16 U.S.C. 703-712), the Secretary of the Interior is authorized to determine when “hunting, taking, capture, killing, possession, sale, purchase, shipment, transportation, carriage, or export of any such bird, or any part, nest, or egg” of migratory game birds can take place and to adopt regulations for this purpose. These regulations, which are updated annually, must give due regard to “the zones of temperature and to the distribution, abundance, economic value, breeding habits, and times and lines of migratory flight of such birds” (16 U.S.C. 704(a)). The Secretary of the Interior has delegated to the Service the lead Federal responsibility for managing and conserving migratory birds in the United States; however, migratory bird management is a cooperative effort of Federal, State, and Tribal governments.

Special Migratory Bird Hunting Regulations for Indian Tribes

In response to Tribal requests for recognition of their reserved hunting rights and, for some Tribes, recognition of their authority to regulate hunting by both Tribal and nontribal members on their reservations, the Service developed guidelines for establishing special migratory bird hunting regulations for Indian Tribes (53 FR 31612, August 18, 1988). The guidelines include possibilities for:

(1) On-reservation hunting by both Tribal and nontribal members, with hunting by nontribal members on some reservations to take place within Federal frameworks but on dates different from those selected by the surrounding State(s);

(2) On-reservation hunting by Tribal members only, outside of the usual Federal frameworks for season dates and length, and for daily bag and possession limits; and

(3) Off-reservation hunting by Tribal members on ceded lands, outside of usual framework dates and season length, with some added flexibility in daily bag and possession limits.

In all cases, the regulations established under the guidelines must be consistent with the closed season on migratory game birds between March 10 and September 1 (exclusive of these dates) mandated by the 1916 Convention between the United States and Great Britain (for Canada/cackling geese) for the Protection of Migratory Birds (Treaty). The guidelines apply to those Tribes having recognized reserved hunting rights on Federal Indian reservations (including off-reservation trust lands) and on ceded lands. They also apply to establishing migratory bird hunting regulations for nontribal members on all lands within the exterior boundaries of reservations where Tribes have full wildlife management authority over such hunting or where the Tribes and affected States otherwise have reached agreement over hunting by nontribal members on lands owned by non-Indians within the reservation.

Tribes usually have the authority to regulate migratory bird hunting by nonmembers on Indian-owned reservation lands, subject to Service approval. The question of jurisdiction is more complex on reservations that include lands owned by non-Indians, especially when the surrounding States have established or intend to establish regulations governing hunting by non-Indians on these lands. In such cases, we encourage the Tribes and States to reach agreement on regulations that would apply throughout the reservations. When appropriate, we will consult with a Tribe and State with the aim of facilitating an accord. We also will consult jointly with Tribal and State officials in the affected States where Tribes wish to establish special hunting regulations for Tribal members on ceded lands.

Because of past questions regarding interpretation of what events trigger the consultation process, as well as who initiates it, we provide the following clarification: We routinely provide Federal Register publications and biological status reports pertaining to migratory bird management and regulations online for all State Directors, Tribes, and other interested parties. It is the responsibility of the States, Tribes, and others to notify us of any concern regarding proposed and final regulations. When we receive such notification, we will initiate consultation.

Our guidelines for establishing special migratory bird hunting regulations for Indian Tribes provide for the continued harvest of waterfowl and other migratory game birds by Tribal members on reservations where such harvest has been a customary practice. We do not oppose this harvest, provided it does not take place during the closed season defined by the Treaty and does not adversely affect the status of the migratory bird resource. Before developing the guidelines, we reviewed information on the status of migratory bird populations and Tribal member participation in migratory bird hunting on Federal Indian reservations and evaluated the potential impact of Tribal member hunting on the migratory bird resource. We concluded that the impact of migratory bird harvest by Tribal members hunting on their reservations is minimal.

We conclude the guidelines provide appropriate opportunity to accommodate the reserved hunting rights and management authority of Indian Tribes while ensuring that the migratory bird resource receives necessary protection. The conservation of this important international resource is paramount. While the guidelines should not be viewed as inflexible, we note that they have been employed successfully since 1985. We should stress here, however, that use of the guidelines is not mandatory, and no action is required if a Tribe wishes to observe the hunting regulations established by the State(s) in which the reservation is located.

Hunting Season Proposals From Indian Tribes and Organizations

On August 31, 2021, we published in the Federal Register (86 FR 48649) a proposal to amend 50 CFR part 20 to establish open hunting seasons and daily bag and possession limits for certain designated groups or species of migratory game birds for 2022-23 in the contiguous United States, Alaska, Hawaii, Puerto Rico, and the U.S. Virgin Islands. The proposal provided a background and overview of the migratory bird hunting regulations process and addressed the establishment of seasons, limits, and other regulations for hunting migratory game birds. The proposed rule also invited proposals from Tribes that want to establish special hunting regulations for the 2022-23 migratory game bird hunting season.

For the 2022-23 migratory game bird hunting season, we received requests from 29 Tribes and Indian organizations for special hunting regulations. In this proposed rule, we respond to these 29 requests, and they are identified in paragraphs (a)-(cc) below. We actively solicit regulatory proposals from other Tribal groups that are interested in working cooperatively for the benefit of waterfowl and other migratory game birds. We encourage Tribes to work with us to develop agreements for management of migratory bird resources on Tribal lands.

The proposed frameworks for migratory game bird hunting regulations were published in the Federal Register on February 2, 2022 (87 FR 5946). As previously discussed, no action is required by Tribes wishing to observe migratory bird hunting regulations established by the State(s) where they are located.

Below are the proposed special migratory bird hunting regulations for the 2022-23 seasons based on requests from Tribes that meet the established criteria or have recently proposed special hunting regulations. Before developing the proposed hunting regulations, we reviewed information on the status of migratory bird populations and expected harvest associated with these regulations and evaluated the potential impact of this harvest on the migratory bird resource. We concluded that the impact of migratory bird harvest associated with these special regulations is minimal, and we propose to approve all the Tribal requests.

(a) Confederated Salish and Kootenai Tribes, Flathead Indian Reservation, Pablo, Montana (Tribal and Nontribal Members)

For the past several years, the Confederated Salish and Kootenai Tribes and the State of Montana have entered into cooperative agreements for the regulation of hunting on the Flathead Indian Reservation. The State and the Tribes are currently operating under a cooperative agreement signed in 1990, which addresses fishing and hunting management and regulation issues of mutual concern. This agreement enables all hunters to utilize waterfowl hunting opportunities on the reservation.

As in the past, Tribal regulations for nontribal members would be at least as restrictive as Federal frameworks for the Pacific Flyway portion of Montana. Goose, duck, and coot season dates would also be at least as restrictive as Federal frameworks for the Pacific Flyway portion of Montana. Shooting hours for waterfowl hunting on the Flathead Reservation are sunrise to sunset. Steel shot or other federally approved nontoxic shot are the only legal shotgun loads allowed on the reservation for waterfowl or other game bird hunting.

For Tribal members, the Tribe requested duck and goose seasons September 1, 2022, through March 10, 2023. Daily bag and possession limits were not proposed for Tribal members.

The requested season dates and bag limits are similar to past regulations. Harvest levels are not expected to change significantly. Standardized check station data from the 1993-94 and 1994-95 hunting seasons indicated no significant changes in harvest levels and that a large majority of the harvest is by nontribal members.

(b) Fond du Lac Band of Lake Superior Chippewa Indians, Cloquet, Minnesota (Tribal Members Only)

Since 1996, the Service and the Fond du Lac Band of Lake Superior Chippewa Indians have cooperated to establish special migratory bird hunting regulations for Tribal members. The Fond du Lac's proposal covers land set apart for the band under the Treaties of 1837 and 1854 in northeastern and east-central Minnesota and the Band's Reservation near Duluth.

The band's requested 2022-23 seasons are essentially the same as those approved last year. The requested 2022-23 waterfowl hunting season regulations for Fond du Lac are as follows:

Ducks

A. 1854 and 1837 Ceded Territories:

Season Dates: September 1-November 30, 2022.

Daily Bag Limit: 18 ducks, including no more than 12 mallards or 9 of any other species.

B. Reservation:

Season Dates: September 1-November 30, 2022.

Daily Bag Limit: 12 ducks, including no more than 8 mallards or 6 of any other species.

Mergansers

A. 1854 and 1837 Ceded Territories:

Season Dates: September 1-November 30, 2022.

Daily Bag Limit: 15 mergansers, including no more than 6 hooded mergansers.

B. Reservation:

Season Dates: September 1-November 30, 2022.

Daily Bag Limit: 10 mergansers, including no more than 4 hooded mergansers.

Canada/Cackling Geese: All Areas

Season Dates: September 1-November 30, 2022.

Daily Bag Limit: 20 Canada/cackling geese.

Sandhill Cranes: 1854 and 1837 Ceded Territories Only

Season Dates: September 1-November 30, 2022.

Daily Bag Limit: 3 sandhill cranes. A crane carcass tag is required prior to hunting.

Tundra and Trumpeter Swans: Reservation Only

Season Dates: September 1-November 30, 2022.

Daily Bag Limit: 2 swans. Swan carcass tags are required prior to hunting.

Coots and Common Gallinules: All Areas

Season Dates: September 1-November 30, 2022.

Daily Bag Limit: 20 coots and common gallinules in the aggregate.

Sora and Virginia Rails: All Areas

Season Dates: September 1-November 30, 2022.

Daily Bag Limit: 25 sora and Virginia rails in the aggregate.

Snipe: All Areas

Season Dates: September 1-November 30, 2022.

Daily Bag Limit: 8 snipe.

Woodcock: All Areas

Season Dates: September 1-November 30, 2022.

Daily Bag Limit: 3 woodcock.

Mourning Doves: All Areas

Season Dates: September 1-November 30, 2022.

Daily Bag Limit: 30 mourning doves.

The following general conditions apply:

1. While hunting waterfowl, a Tribal member must carry on his/her person a valid Ceded Territory License.

2. Shooting hours for migratory birds are one-half hour before sunrise to one-half hour after sunset.

3. Except as otherwise noted, Tribal members will be required to comply with Tribal codes that will be no less restrictive than the provisions of chapter 10 of the Model Off-Reservation Code. Except as modified by the Service rules adopted in response to this proposal, these amended regulations parallel Federal requirements in 50 CFR part 20 as to hunting methods, transportation, sale, exportation, and other conditions generally applicable to migratory bird hunting.

4. Band members in each zone will comply with State regulations providing for closed and restricted waterfowl hunting areas.

5. There are no possession limits for migratory birds. For purposes of enforcing bag limits, all migratory birds in the possession or custody of band members on ceded lands will be considered to have been taken on those lands unless tagged by a Tribal or State conservation warden as having been taken on-reservation. All migratory birds that fall on reservation lands will not count as part of any off-reservation bag or possession limit.

The band anticipates harvest will be fewer than 250 ducks and geese, and fewer than 10 sandhill cranes and 10 trumpeter swans.

(c) Grand Traverse Band of Ottawa and Chippewa Indians, Suttons Bay, Michigan (Tribal Members Only)

In the 1995-96 migratory bird seasons, the Grand Traverse Band of Ottawa and Chippewa Indians and the Service first cooperated to establish special regulations for waterfowl. The Grand Traverse Band is a self-governing, federally recognized Tribe located on the west arm of Grand Traverse Bay in Leelanau County, Michigan. The Grand Traverse Band is a signatory Tribe of the Treaty of 1836. We have approved special regulations for Tribal members of the 1836 treaty's signatory Tribes on ceded lands in Michigan since the 1986-87 hunting season.

For the 2022-23 season, the Tribe requested a duck season during September 1, 2022, through January 20, 2023. The daily bag limit would be 35 ducks and include no more than 8 pintail, 4 canvasbacks, 5 hooded mergansers, 8 black ducks, 10 wood ducks, 8 redheads, and 20 mallards (only 10 of which may be females).

For Canada/cackling geese and snow geese, the Tribe requested a season during September 1, 2022, through February 15, 2023. For white-fronted geese and brant, the Tribe requested a season during September 20 through December 30, 2022. The daily bag limit for Canada/cackling geese and snow geese would be 15 of each/in the aggregate, and the daily bag limit for white-fronted geese, including brant, would be 5 of each/in the aggregate. We further note that, based on available data (of major goose migration routes), it is unlikely that any Canada/cackling geese from the Southern James Bay Population will be harvested by the Tribe.

For woodcock, the Tribe proposes a season during September 1 through November 14, 2022. The daily bag limit will not exceed 5 woodcock.

For mourning doves, the Tribe proposes a season during September 1 through November 14, 2022. The daily bag limit would be 25 mourning doves.

For sandhill cranes, the Tribe proposes a season during September 1 through November 14, 2022. The daily bag limit would be 2 and a season limit of 4 sandhill cranes.

For snipe and rails (sora and Virginia Rail), the Tribe proposes a season during September 1 through November 14, 2022. The daily bag limit would be 10 of each species.

Shooting hours would be from one-half hour before sunrise to one-half hour after sunset. All other Federal regulations contained in 50 CFR part 20 would apply including required use of nontoxic shot. The Tribe proposes to monitor harvest through game bag checks, patrols, and mail surveys. Harvest surveys from the 2013-14 hunting season indicated that approximately 30 Tribal members harvested an estimated 100 ducks and 45 Canada/cackling geese.

(d) Great Lakes Indian Fish and Wildlife Commission, Odanah, Wisconsin (Tribal Members Only)

Since 1985, various bands of the Lake Superior Tribe of Chippewa Indians have exercised judicially recognized, off-reservation hunting rights for migratory birds in Wisconsin. The specific regulations were established by the Service in consultation with the Wisconsin Department of Natural Resources and the Great Lakes Indian Fish and Wildlife Commission (GLIFWC), an intertribal agency exercising delegated natural resource management and regulatory authority from its member Tribes in portions of Wisconsin, Michigan, and Minnesota. Beginning in 1986, a Tribal season on ceded lands in the western portion of the Michigan Upper Peninsula was developed in coordination with the Michigan Department of Natural Resources. We have approved regulations for Tribal members in both Michigan and Wisconsin since the 1986-87 hunting season. In 1987, GLIFWC requested, and we approved, regulations to permit Tribal members to hunt on ceded lands in Minnesota, as well as in Michigan and Wisconsin. The States of Michigan and Wisconsin originally concurred with the regulations, although both Wisconsin and Michigan have raised various concerns over the years. Minnesota did not concur with the original regulations, stressing that the State would not recognize Chippewa Indian hunting rights in Minnesota's treaty area until a court with jurisdiction over the State acknowledges and defines the extent of these rights. In 1999, the U.S. Supreme Court upheld the existence of the Tribes' treaty reserved rights in Minnesota v. Mille Lacs Band, 199 S. Ct. 1187 (1999).

We acknowledge all of the States' concerns but point out that the U.S. Government has recognized the Indian treaty reserved rights, and that acceptable hunting regulations have been successfully implemented in Minnesota, Michigan, and Wisconsin. Consequently, in view of the above, we have approved regulations since the 1987-88 hunting season on ceded lands in all three States. In fact, this recognition of the principle of treaty reserved rights for band members to hunt and fish was pivotal in our decision to approve a 1991-92 season for the 1836 ceded area in Michigan. Since then, in the 2007 Consent Decree, the 1836 Treaty Tribes and the Michigan Department of Natural Resources and Environment established court-approved regulations pertaining to off-reservation hunting rights for migratory birds.

For 2022, GLIFWC proposes off-reservation special migratory bird hunting regulations on behalf of the member Tribes of the Voigt Intertribal Task Force of GLIFWC (for the 1837 and 1842 Treaty areas in Wisconsin and Michigan), the Mille Lacs Band of Ojibwe and the six Wisconsin Bands (for the 1837 Treaty area in Minnesota), and the Bay Mills Indian Community (for the 1836 Treaty area in Michigan). Member Tribes of the Task Force are as follows:

Wisconsin | Minnesota | Michigan
Bad River Band of the Lake Superior Tribe of Chippewa Indians | Mille Lacs Band of Chippewa Indians | Lac Vieux Desert Band of Chippewa Indians.
Lac Courte Oreilles Band of Lake Superior Chippewa Indians | Fond du Lac Band of Lake Superior Chippewa Indians | Keweenaw Bay Indian Community.
Lac du Flambeau Band of Lake Superior Chippewa Indians
Red Cliff Band of Lake Superior Chippewa Indians
St. Croix Chippewa Indians of Wisconsin
Sokaogon Chippewa Community (Mole Lake Band)

This year, GLIFWC requested operational use of enhanced methods of take (electronic calls and handheld nets) beginning with the 2022-23 hunting season in the 1837 and 1842 Treaty Areas. These methods were authorized over the past three hunting seasons as part of an experimental season; however, limited use of these methods by Tribal hunters made evaluation of their use difficult. The Service agreed to allow use of these enhanced methods of take for the next two hunting seasons to aid in evaluation, and a Memorandum of Agreement (MOA) is being developed with GLIFWC.

Under GLIFWC's proposed 2022-23 regulations, GLIFWC expects total ceded territory harvest to be approximately 2,000 to 3,000 ducks, 500 to 900 geese, fewer than 60 sandhill cranes, and 25 swans (trumpeter and tundra in the aggregate), based on the results from the 5 most recent harvest surveys.

Harvest surveys conducted after the 1996, 1997, 1998, 2001, 2004, 2007, 2008, 2011, 2012, 2015, 2018, 2019 and 2020 Tribal seasons indicate that Tribal off-reservation harvest has averaged approximately 1,500 ducks and 375 geese annually during this period. Due to the limited distribution of doves and dove habitat in the ceded territory, and the relatively small number of Tribal off-reservation migratory bird hunters, dove harvest is negligible. Two sandhill cranes were reported harvested in each of the first three Tribal crane seasons (2012-2014), 3 in 2015, 0 in 2016, 15 in 2017, 31 in 2018, 24 in 2019, and 36 in 2020. No swans were harvested in the first three Tribal swan seasons (2014-2016), but two swans were harvested in 2017 and 2018, respectively, nine in 2019, and none in 2020. All swans harvested have been trumpeters.

The proposed 2022-23 waterfowl hunting season regulations apply to all treaty areas (except where noted) for GLIFWC as follows:

Ducks

Season Dates: September 1-December 31, 2022.

Daily Bag Limit: 50 ducks in the 1837 and 1842 Treaty Area; 30 ducks in the 1836 Treaty Area.

Mergansers

Season Dates: September 1-December 31, 2022.

Daily Bag Limit: 10 mergansers.

Geese

Season Dates: September 1-December 31, 2022. In addition, any portion of the ceded territory that is open to State-licensed hunters for goose hunting outside of these dates will also be open concurrently for Tribal members.

Daily Bag Limit: 20 geese in the aggregate.

Other Migratory Birds

A. Coots and Common Gallinules:

Season Dates: September 1-December 31, 2022.

Daily Bag Limit: 20 coots and common gallinules in the aggregate.

B. Sora and Virginia Rails:

Season Dates: September 1-December 31, 2022.

Daily Bag and Possession Limits: The daily bag limit is 20 sora and Virginia rails in the aggregate, and the possession limit is 25 sora and Virginia rails in the aggregate.

C. Snipe:

Season Dates: September 1-December 31, 2022.

Daily Bag Limit: 16 snipe.

D. Woodcock:

Season Dates: 1836 Ceded Territory: September 1-December 31, 2022; 1837 and 1842 Ceded Territories: September 3-December 31, 2022.

Daily Bag Limit: 10 woodcock.

E. Mourning Doves: 1837 and 1842 Ceded Territories only.

Season Dates: September 1-November 29, 2022.

Daily Bag Limit: 15 mourning doves.

F. Sandhill Cranes:

Season Dates: September 1-December 31, 2022.

Daily Bag Limit: 10 sandhill cranes and no seasonal bag limit in the 1837 and 1842 Treaty areas; 3 sandhill cranes and no seasonal bag limit in the 1836 Treaty area.

G. Swans: 1837 and 1842 Ceded Territories only.

Season Dates: September 1-December 31, 2022.

Daily Bag Limit: 5 swans. All harvested swans must be registered by presenting the fully feathered carcass to a Tribal registration station or GLIFWC warden. If the total number of trumpeter swans harvested reaches 20, the swan season will be closed by emergency Tribal rule.

General Conditions

A. All Tribal members will be required to obtain a valid Tribal waterfowl hunting permit.

B. Except as otherwise noted, Tribal members will be required to comply with Tribal codes that will be no less restrictive than the model ceded territory conservation codes approved by Federal courts in the Lac Courte Oreilles v. State of Wisconsin (Voigt) and Mille Lacs Band v. State of Minnesota cases. Chapter 10 in each of these model codes regulates ceded territory migratory bird hunting. Both versions of chapter 10 parallel Federal requirements as to hunting methods, transportation, sale, exportation, and other conditions generally applicable to migratory bird hunting. They also automatically include by reference the Federal migratory bird regulations adopted in response to this proposal.

C. Particular regulations of note include:

1. Nontoxic shot will be required for all waterfowl hunting by Tribal members.

2. Tribal members in each zone will comply with Tribal regulations providing for closed and restricted waterfowl hunting areas. These regulations generally incorporate the same restrictions contained in parallel State regulations.

3. There are no possession limits, with the exception of 25 rails (in the aggregate) and 20 trumpeter swans total. For purposes of enforcing bag limits, all migratory birds in the possession and custody of Tribal members on ceded lands will be considered to have been taken on those lands unless tagged by a Tribal or State conservation warden as taken on reservation lands. All migratory birds that fall on reservation lands will not count as part of any off-reservation bag or possession limit.

4. There are no shell limit restrictions.

5. Hunting hours are from 30 minutes before sunrise to 30 minutes after sunset, except that, within the 1837 and 1842 Ceded Territories, hunters may use non-mechanical nets or snares that are operated by hand to take those birds subject to an open hunting season at any time (see further proposed regulations below). Capturing, without the aid of other devices (i.e., by hand), and immediately killing birds subject to an open season may also be done regardless of the time of day.

6. Within the 1837 and 1842 Ceded Territories, Tribal members will be allowed to use electronic calls. Individuals using these devices will be required to complete a hunt survey for each hunt where electronic calls are used. Required information will include the date, time, and location of the hunt; number of hunters; the number of each species harvested per hunting event; if other hunters were in the area, any interactions with other hunters; and other information deemed appropriate. Survey results will be summarized and documented in a Commission report, which will be submitted to the Service. Barring unforeseen results, this application will be replicated for 2 years (through the 2023-24 season), after which a full evaluation would be completed.

7. Within the 1837 and 1842 Ceded Territories, Tribal members will be allowed to use non-mechanical, hand-operated nets (i.e., throw/cast nets or handheld nets typically used to land fish) and hand-operated snares and may chase and capture migratory birds without the aid of hunting devices (i.e., by hand). At this time, non-attended nets or snares will not be authorized under this regulation. Tribal members using nets or snares to take migratory birds, or taking birds by hand, will be required to complete a hunt survey for each hunt where these methods are used; and they will be required to submit the data to the Commission when requested at the end of the season. Required information will include the date, time, and location of the hunt; number of hunters; the number of each species harvested per hunting event; and other information deemed appropriate. Results will be summarized and documented in a Commission report, which will be submitted to the Service. Barring unforeseen results, this application will be replicated for 2 years (through the 2023-24 season), after which a full evaluation would be completed.

(e) Jicarilla Apache Tribe, Jicarilla Indian Reservation, Dulce, New Mexico (Tribal Members and Nontribal Members)

The Jicarilla Apache Tribe has had special migratory bird hunting regulations for Tribal members and nonmembers since the 1986-87 hunting season. The Tribe owns all lands on the reservation and has recognized full wildlife management authority.

The Tribe requested a 2022-23 waterfowl season during October 8 through November 30, 2022. Daily bag and possession limits for waterfowl would be the same as the Federal frameworks for the Pacific Flyway portion of New Mexico, except that the Tribe requested daily bag and possession limits for Canada/cackling geese of two and four, respectively. Other regulations specific to the Pacific Flyway portion of New Mexico would be in effect.

During the Jicarilla Game and Fish Department's 2019 season, estimated duck harvest was 205. The species composition included mainly mallards, and gadwall. The estimated harvest of geese was nine birds.

The proposed regulations are essentially the same as were established last year. The Tribe anticipates the maximum 2022-23 waterfowl harvest would be around 200 ducks and 20 geese.

(f) Kalispel Tribe, Kalispel Reservation, Usk, Washington (Tribal Members and Nontribal Members)

The Kalispel Reservation was established by Executive Order in 1914, and currently comprises approximately 4,600 acres. The Tribe owns all Reservation land and has full management authority. The Kalispel Tribe has a fully developed wildlife program with hunting and fishing codes. The Tribe enjoys excellent wildlife management relations with the State. The Tribe and the State have an operational memorandum of understanding with emphasis on fisheries but also for wildlife.

The nontribal member seasons described below would pertain to a 176-acre waterfowl management unit and 800 acres of reservation land. Hunters must be accompanied by a guide from the Tribe. The Tribe is utilizing this opportunity to rehabilitate an area that needs protection because of past land use practices, as well as to provide additional waterfowl hunting in the area. Beginning in 1996, the requested regulations also included a proposal for Kalispel-member-only migratory bird hunting on Kalispel-ceded lands within Washington, Montana, and Idaho.

The Kalispel Tribe requested duck and goose seasons for Tribal members only on reservation lands with dates consistent with Federal framework dates (September 24, 2022-January 31, 2023).

For nontribal members on Tribally managed lands, the Tribe requested duck and goose seasons with the earliest possible opening date and to remain open for the maximum number of days allowed by Federal frameworks (107 days from September 24, 2022-January 8, 2023). The Tribe requested a season for ducks during September 24-25, 2022, and during October 1, 2022, through January 8, 2023. Hunters should obtain further information on specific hunt days from the Kalispel Tribe.

For nontribal members, the daily bag and possession limits would be the same as those for the duck and goose season in the State of Washington.

The Tribe reports past nontribal member harvest of 1.5 ducks per day. Under the proposal, the Tribe expects harvest to be similar to last year, that is, fewer than 100 geese and 160 ducks.

All other State and Federal regulations contained in 50 CFR part 20, such as use of nontoxic shot and possession of a signed Migratory Bird Hunting and Conservation Stamp (Duck Stamp), would apply.

For Tribal members on Kalispel-ceded lands, the Kalispel Tribe requested a duck season during October 1, 2022, through January 31, 2023, and a goose season during September 3, 2022, through January 31, 2023. Daily bag and possession limits would be consistent with those for the State of Washington.

The Tribe reports that there was no harvest by Tribal members in 2021-22. Under the proposal, the Tribe expects harvest to be fewer than 200 birds total for the season. Tribal members would be required to possess a signed Federal Duck Stamp and a Tribal ceded lands permit.

(g) Klamath Tribe, Chiloquin, Oregon (Tribal Members Only)

The Klamath Tribe currently has no reservation, per se. However, the Klamath Tribe has reserved hunting, fishing, and gathering rights within its former reservation boundary. This area of former reservation, granted to the Klamaths by the Treaty of 1864, is over 1 million acres. Tribal natural resource management authority is derived from the Treaty of 1864 and carried out cooperatively under the judicially enforced Consent Decree of 1981. The parties to this Consent Decree are the Federal Government, the State of Oregon, and the Klamath Tribe. The Klamath Indian Game Commission sets the seasons. The Tribal biological staff and Tribal regulatory enforcement officers monitor Tribal harvest by frequent bag checks and hunter interviews.

The Tribe requested duck and goose seasons during October 5, 2022, through January 31, 2023. Daily bag limits would be nine ducks, nine geese, and nine coots, with possession limits two times the daily bag limit. Shooting hours would be one-half hour before sunrise to one-half hour after sunset. Steel shot is required.

Based on the number of birds produced in the Klamath Basin, this year's harvest would be similar to last year's. Past information on Tribal harvest suggests that more than 70 percent of the annual goose harvest is local birds produced in the Klamath Basin.

(h) Leech Lake Band of Ojibwe, Cass Lake, Minnesota (Tribal Members Only)

The Leech Lake Band of Ojibwe is a federally recognized Tribe located in Cass Lake, Minnesota. The reservation employs conservation officers to enforce conservation regulations. The Service and the Tribe have cooperatively established migratory bird hunting regulations since 2000.

The Tribe requested a duck season during September 3 through December 31, 2022, and a goose season during September 3 through December 31, 2022. Daily bag limits for ducks would be 10 ducks, including no more than 5 pintail, 5 canvasbacks, and 5 black ducks. Daily bag limits for geese would be 10 geese. Possession limits would be two times the daily bag limit.

Shooting hours are one-half hour before sunrise to one-half hour after sunset. Only steel or other approved nontoxic shot may be used to harvest waterfowl. Waterfowl may not be pursued or taken while under the power of a motorized watercraft. Use of live decoys, bait, and commercial use of migratory birds is prohibited. No hunting will be allowed on or near a wild rice bed that is being actively harvested. No travel by boat is allowed within a wild rice bed. Nonnative species must be removed from watercraft and hunting equipment before leaving an access point. Several waterfowl refuges are closed to the taking of waterfowl.

The annual harvest by Tribal members on the Leech Lake Reservation is estimated at 250 to 500 birds.

(i) Little River Band of Ottawa Indians, Manistee, Michigan (Tribal Members Only)

The Little River Band of Ottawa Indians (LRBOI) is a self-governing, federally recognized Tribe located in Manistee, Michigan, and a signatory Tribe of the Treaty of 1836. We have approved special regulations for Tribal members of the 1836 treaty's signatory Tribes on ceded lands in Michigan since the 1986-87 hunting season. Ceded lands are located in Lake, Mason, Manistee, and Wexford Counties. The Band proposes regulations to govern the hunting of migratory birds by Tribal members within the 1836 Ceded Territory as well as on the Band's Reservation.

LRBOI requested a duck and merganser season from September 1, 2022, through January 31, 2023. The daily bag limit would be 12 ducks and include no more than 2 pintail, 4 canvasbacks, 4 black ducks, 6 wood ducks, 4 redheads, 8 mallards (only 4 of which may be female), 10 common and red-breasted mergansers, and 2 hooded mergansers. Possession limits would be three times the daily bag limit.

For coots and gallinules, the Tribe requested a season during September 14, 2022, through January 31, 2023. Daily bag limits would be 30 coots and gallinules and 60 in possession.

For geese, the Tribe requested a season during September 1, 2022, through February 15, 2023. Daily bag limits would be 10 geese.

For woodcock, snipe, and rails (sora and Virginia), the Tribe requested a season during September 1, 2022, through December 31, 2022. The daily bag limit would be 5 woodcock and 25 snipe or rails in the aggregate. Possession limits for all species would be three times the daily bag limit.

For mourning doves, the Tribe requested a season during September 1, 2022, through March 1, 2023, with a daily bag limit of 25 mourning doves. The possession limit would be three times the daily bag limit.

For sandhill cranes, the Tribe requested a season during September 1, 2022, through December 31, 2022, with a daily bag limit of two sandhill cranes. The possession limit would be three times the daily bag limit.

The Tribe monitors harvest through mail surveys.

General conditions are as follows:

A. All Tribal members will be required to obtain a valid Tribal resource card and 2022-23 hunting license.

B. Except as modified by the Service rules adopted in response to this proposal, these amended regulations parallel all Federal regulations contained in 50 CFR part 20. Shooting hours will be from one-half hour before sunrise to sunset.

C. Particular regulations of note include:

1. Nontoxic shot will be required for all waterfowl hunting by Tribal members.

2. Tribal members in each zone will comply with Tribal regulations providing for closed and restricted waterfowl hunting areas. These regulations generally incorporate the same restrictions contained in parallel State regulations.

D. Tribal members hunting in Michigan will comply with Tribal codes that contain provisions parallel to Michigan law regarding duck blinds and decoys.

(j) The Little Traverse Bay Bands of Odawa Indians, Petoskey, Michigan (Tribal Members Only)

The Little Traverse Bay Bands of Odawa Indians (LTBB) is a self-governing, federally recognized Tribe located in Petoskey, Michigan, and a signatory Tribe of the Treaty of 1836. We have approved special regulations for Tribal members of the 1836 treaty's signatory Tribes on ceded lands in Michigan since the 1986-87 hunting season.

For the 2022-23 season, the LTBB requested regulations similar to those of other Tribes in the 1836 treaty area. The LTBB requested regulations to govern the hunting of migratory birds by Tribal members on the LTBB reservation and within the 1836 Treaty Ceded Territory. The duck and merganser season would be during September 1, 2022, through January 31, 2023. The daily bag limit would be 20 ducks and 10 mergansers and would include no more than 5 female mallards, 5 pintail, 5 canvasbacks, 5 scaup, 5 hooded mergansers, 5 black ducks, 5 wood ducks, and 5 redheads. Possession limits would be two times the daily bag limit.

For Canada/cackling geese, the LTBB requested a season during September 1, 2022, through February 8, 2023. The daily bag limit would be 20 Canada/cackling geese. We further note that, based on available data (of major goose migration routes), it is unlikely that any Canada/cackling geese from the Southern James Bay Population would be harvested by the LTBB. Possession limits are twice the daily bag limit.

For woodcock, the LTBB requested a season during September 1 through December 1, 2022. The daily bag limit will not exceed 10 woodcock. For snipe, the LTBB requested a season during September 1 through December 31, 2022. The daily bag limit will not exceed 15 snipe. For mourning doves, the LTBB requested a season during September 1 through November 14, 2022. The daily bag limit will not exceed 15 mourning doves. For sora and Virginia rails, the LTBB requested a season during September 1 through December 31, 2022. The daily bag limit will not exceed 20 sora and 20 Virginia rails. For coots and gallinules, the LTBB requested a season during September 1 through December 31, 2022. The daily bag limit would not exceed 20 coots and 20 gallinules. The possession limits would be two times the daily bag limits.

The LTBB also proposes a sandhill crane season during September 1 through December 1, 2022. The daily bag limit would be two sandhill cranes. The possession limit would be two times the daily bag limit.

All other Federal regulations contained in 50 CFR part 20 would apply, except the Tribe proposes the use of electronic calls for all species proposed. The Tribe has agreed to extend the experimental MOA with the Service regarding the use of electronic calling through the 2022-23 season.

The LTBB proposes to monitor harvest through game bag checks, patrols, and mail surveys. In particular, the LTBB proposes monitoring the harvest of Southern James Bay Canada/cackling geese and sandhill cranes to assess any impacts of Tribal hunting on the population.

(k) Lower Brule Sioux Tribe, Lower Brule Reservation, Lower Brule, South Dakota (Tribal Members and Nontribal Members)

The Lower Brule Sioux Tribe first established Tribal migratory bird hunting regulations for the Lower Brule Reservation in 1994. The Lower Brule Reservation is about 214,000 acres in size and is located on and adjacent to the Missouri River, south of Pierre. Land ownership on the reservation is mixed, and until recently, the Lower Brule Tribe had full management authority over fish and wildlife via an MOA with the State of South Dakota. The MOA provided the Tribe jurisdiction over fish and wildlife on reservation lands, including deeded and U.S. Army Corps of Engineers-taken lands. For the 2022-23 season, the two parties have come to an agreement that provides the public a clear understanding of the Lower Brule Sioux Wildlife Department license requirements and hunting season regulations. The Lower Brule Reservation waterfowl season is open to Tribal and nontribal members.

For the 2022-23 migratory bird hunting season, the Lower Brule Sioux Tribe requested a nontribal member duck, merganser, and coot season length of 97 days, or the maximum number of days allowed by Federal frameworks in the High Plains Management Unit for this season. The Tribe proposes a duck season during October 1, 2022, through January 5, 2023. The daily bag limit would be six ducks (including merganser) or the maximum number that Federal frameworks allow, including no more than two female mallards and five mallards in total, two pintail, two redheads, two canvasbacks, three wood duck, three scaup, and one mottled duck. Two bonus blue-winged teal are allowed during October 1-16, 2022. The daily bag limit for coots would be 15. Possession limits would be three times the daily bag limits.

The Tribe requested a nontribal member Canada/cackling goose season during October 29, 2022, through February 12, 2023 (107-day season length), with a daily bag limit of six Canada/cackling geese. The Tribe requested a nontribal member white-fronted goose season during October 22, 2022, through January 17, 2023, with a daily bag limit of two white-fronted geese and possession limit of three times the daily bag limit. The Tribe requested a nontribal-member light goose season during October 22, 2022, through February 5, 2023. The daily bag limit would be 20 light geese, or the maximum number that Federal frameworks allow, with no possession limits.

The Tribe requested a dove season for nontribal members during September 1, 2022, through November 29, 2022. The daily bag limit would be 15 doves and possession limit three times the daily bag limit.

For Tribal members, the Lower Brule Sioux Tribe requested a duck, merganser, and coot season during September 1, 2022, through March 10, 2023. The daily bag limit would be six ducks, including no more than two female mallards and five mallards in total, one pintail, two redheads, two canvasbacks, three wood ducks, three scaup, two bonus teal during the first 16 days of the season, and two mottled ducks or the maximum number that Federal frameworks allow. The daily bag limit for mergansers would be five, only two of which could be hooded mergansers. The daily bag limit for coots is 15. Possession limits would be three times the daily bag limits.

The Tribe requested a Canada/cackling goose season for Tribal members during September 1, 2022, through March 10, 2023, with a daily bag limit of six Canada/cackling geese. The possession limit would be three times the daily bag limit. The Tribe requested a white-fronted goose season for Tribal members during September 1, 2022, through March 10, 2023, with a daily bag limit of two white-fronted geese and a possession limit of three times the daily bag limit, or the maximum limits that Federal regulations allow. The Tribe requested a light goose season for Tribal members during September 1, 2022, through March 10, 2023. The daily bag limit would be 20 light geese, or the maximum number that Federal frameworks allow, with no possession limits.

The Tribe requested a dove season for Tribal members during September 1, 2022, through January 31, 2023. The daily bag limit would be 15 doves, and the possession limit would be three times the daily bag limit.

In the 2020 season, nontribal members harvested 125 geese and 821 ducks. Estimated duck harvest was 45 percent higher than the average harvest from 1993 through 2019. Goose harvest was 70 percent lower than the 1993-2019 average. Tribal members harvested approximately 119 ducks and 64 geese in 2020.

The Tribe anticipates a duck and goose harvest similar to those of the previous years. All basic Federal regulations contained in 50 CFR part 20, including the use of nontoxic shot, Duck Stamps, etc., would apply. In addition, the Lower Brule Sioux Tribe has an official Conservation Code that was established by Tribal Council Resolution in June 1982 and updated in 1996.

(l) Lower Elwha Klallam Tribe, Port Angeles, Washington (Tribal Members Only)

Since 1996, the Service and the Point No Point Treaty Tribes, of which Lower Elwha was one, have cooperated to establish special regulations for migratory bird hunting. The Tribes are now acting independently, and it is our understanding that the Lower Elwha Klallam Tribe would like to establish migratory bird hunting regulations for Tribal members for the 2022-23 season. The Tribe has a reservation on the Olympic Peninsula in Washington State and is a successor to the signatories of the Treaty of Point No Point of 1855.

For the 2022-23 season, the Tribe requested special migratory bird hunting regulations for ducks (including merganser), geese, coots, band-tailed pigeons, snipe, and mourning doves. The Lower Elwha Klallam Tribe requested a duck and coot season during September 4, 2022, through January 2, 2023. The daily bag limit would be seven ducks, including no more than two female mallards, one pintail, one canvasback, and two redheads. The daily bag and possession limit of harlequin ducks is one per season. The coot daily bag limit would be 25. The possession limit would be two times the daily bag limit, except as noted above.

For geese, the Tribe requested a season during September 4, 2022, through January 2, 2023. The daily bag limit would be four geese, including no more than three light geese. The season on Aleutian Canada/cackling geese would be closed.

For brant, the Tribe requested to maintain a closed season.

For mourning doves and band-tailed pigeon, the Tribe requested seasons during September 1, 2022, through February 27, 2023, with a daily bag limit of 10 mourning doves, and 2 band-tailed pigeons. The possession limits would be two times the daily bag limits.

For snipe, the Tribe requested a season during September 4, 2022, through January 2, 2023, with a daily bag limit of eight snipe. The possession limit would be two times the daily bag limit.

All Tribal hunters authorized to hunt migratory birds are required to obtain a Tribal hunting permit from the Lower Elwha Klallam Tribe pursuant to Tribal law. Hunting hours would be from one-half hour before sunrise to sunset. Only steel, tungsten-iron, tungsten-polymer, tungsten-matrix, and tin shot are allowed for hunting waterfowl. It is unlawful to use or possess lead shot while hunting waterfowl.

The Tribe reported no harvest in 2020-21 or 2021-22 and anticipates harvest to be fewer than 10 birds. Tribal reservation police and Tribal fisheries enforcement officers have the authority to enforce these migratory bird hunting regulations for the Lower Elwha Klallam Tribe.

(m) Makah Indian Tribe, Neah Bay, Washington (Tribal Members Only)

The Makah Indian Tribe and the Service have been cooperating to establish special regulations for migratory game birds on the Makah Reservation and traditional hunting land off the Makah Reservation since the 2001-02 hunting season. Lands off the Makah Reservation are those contained within the boundaries of the State of Washington Game Management Units 601-603.

The Makah Indian Tribe requested a duck and coot season from September 24, 2022, through January 31, 2023. The daily bag limit would be seven ducks, including no more than seven mallards (only two female mallards), two canvasbacks, one pintail, three scaup, and two redheads. The daily bag limit for coots would be 25. The Tribe has a year-round closure on wood ducks and harlequin ducks. Shooting hours for all species of waterfowl are one-half hour before sunrise to sunset.

For geese, the Tribe proposes a season during September 24, 2022, through January 31, 2023. The daily bag limit would be 4 Canada/cackling geese, 10 white-fronted geese, 10 light geese, and 2 brant. The Tribe notes that there is a year-round closure on dusky Canada geese.

For band-tailed pigeons, the Tribe requested a season during September 15 through September 23, 2022. The daily bag limit would be two band-tailed pigeons.

The Tribe anticipates that harvest under these regulations would be relatively low since there are no known dedicated waterfowl hunters and any harvest of waterfowl or band-tailed pigeons is usually incidental to hunting for other species, such as deer, elk, and bear. The Tribe expects fewer than 50 ducks and 10 geese to be harvested during the 2022-23 migratory bird hunting season.

All other Federal regulations contained in 50 CFR part 20 would apply. The following restrictions are also proposed by the Tribe:

1. As per Makah Ordinance 44, only shotguns may be used to hunt any species of waterfowl. Additionally, shotguns must not be discharged within 300 feet of an occupied building, occupied area, or active logging operation.

2. Hunters must be eligible enrolled Makah Tribal members and must carry their Indian Treaty Fishing and Hunting Identification Card while hunting. See Makah General Hunting Regulations.

3. The Makah Reservation Area is open except in designated wilderness areas, or within 1 mile of Cape Flattery and Shi-Shi Trails, or in any area that is closed to hunting by another ordinance or regulation.

4. The use of live decoys and/or baiting to pursue any species of waterfowl is prohibited.

5. Only approved nontoxic shot is allowed for waterfowl; the use of lead shot is prohibited.

6. The use of dogs is permitted to hunt all species under this regulation.

7. Hunters must report any neck or leg bands placed by the Federal Government to Natural Resources Enforcement or by calling 1-800-327-BAND.

(n) Muckleshoot Indian Tribe, Auburn, Washington (Tribal Members Only)

The Muckleshoot Tribe is a federally recognized Tribe with reserved hunting rights under the Treaty of Medicine Creek 1854 and Treaty of Point Elliott 1855. Hunting occurs within the treaty areas as well as on lands traditionally hunted by the Muckleshoot Indian Tribe.

The Muckleshoot Indian Tribe requested a duck, merganser, and coot season during September 1, 2022, through March 10, 2023. The daily bag limit would be seven, including no more than two female mallards, two canvasbacks, two pintail, three scaup, two redheads, two scoters, two long-tailed ducks, and two goldeneyes. The daily bag limit for coots would be 25. The limit on harlequin ducks would be one per season.

For geese, the Tribe requested a season during September 1, 2022, through March 10, 2023. The daily bag limit would be 4 Canada/cackling geese, 6 light geese, 10 white-fronted geese, and 2 brant. The season on dusky Canada geese would be closed.

For band-tailed pigeons, mourning doves, and snipe, the Tribe requested seasons during September 1, 2022, through March 10, 2023. The daily bag limits would be 2 band-tailed pigeons, 15 mourning doves, and 8 snipe. The possession limits would be three times the daily bag limits on all species unless otherwise noted.

The Tribe anticipates that harvest under this regulation will be relatively low since no known harvest has occurred over the past 20 years, and there are no known dedicated waterfowl or other migratory bird hunters. Harvest will be for personal cultural and subsistence purposes. We anticipate fewer than 100 ducks and 100 geese may be harvested.

All other Federal regulations contained in 50 CFR part 20 would apply. The following restrictions are also proposed by the Tribe:

1. Hunting can occur on reservation and off reservation on lands where the Tribe has treaty-reserved hunting rights or has documented traditional use.

2. Shooting hours for all species of waterfowl are one-half hour before sunrise to one-half after sunset.

3. Hunters must be eligible enrolled Muckleshoot Tribal members and must carry their Tribal identification while hunting.

4. Tribal members hunting migratory birds must also have a combined Migratory Bird Hunting Permit and Harvest Report Card.

5. The use of live decoys and/or baiting to pursue any species of waterfowl is prohibited.

6. Hunting for migratory birds is with shotgun only. Only steel, tungsten-iron, tungsten-polymer, tungsten-matrix, and tin shot are allowed for hunting waterfowl. It is unlawful to use or possess lead shot while hunting waterfowl.

(o) Navajo Nation, Navajo Indian Reservation, Window Rock, Arizona (Tribal Members and Nontribal members)

Since 1985, we have established uniform migratory bird hunting regulations for Tribal members and nonmembers on the Navajo Indian Reservation (in parts of Arizona, New Mexico, and Utah). The Navajo Nation owns almost all lands on the reservation and has full wildlife management authority.

For Tribal and nontribal members for the 2022-23 season, the Tribe requested the earliest opening dates with a split season to end on the last day for ducks, mergansers, Canada/cackling geese, and coot seasons, and the same daily bag and possession limits allowed by Federal frameworks in Arizona.

For mourning dove, the Navajo Nation requested seasons during September 1-30, 2022, with daily bag limits of 10 mourning doves. For band-tailed pigeon, the Navajo Nation requested seasons during September 1-14, 2022, with daily bag limits of two band-tailed pigeons. Possession limits would be two times the daily bag limits.

The Nation requires Tribal members and nonmembers to comply with all basic Federal migratory bird hunting regulations in 50 CFR part 20 pertaining to shooting hours and manner of taking. In addition, each waterfowl hunter aged 16 or older must carry on his/her person a valid Duck Stamp, which must be signed in ink across the face. Special regulations established by the Navajo Nation also apply on the reservation.

The Tribe anticipates a total harvest of fewer than 500 mourning doves; fewer than 10 band-tailed pigeons; fewer than 1,000 ducks, merganser, and coot; and fewer than 1,000 Canada/cackling geese for the 2022-23 season. The Tribe measures harvest by mail survey forms. Through the established Navajo Nation Code, titles 17 and 18, and 23 U.S.C. 1165, the Tribe will take action to close the season, reduce bag limits, or take other appropriate actions if the harvest is detrimental to the migratory bird resource.

(p) Oneida Tribe of Indians of Wisconsin, Oneida, Wisconsin (Tribal Members Only)

Since 1991-92, the Oneida Tribe of Indians of Wisconsin and the Service have cooperated to establish uniform regulations for migratory bird hunting by Tribal and nontribal hunters within the original Oneida Reservation boundaries. Since 1985, the Oneida Tribe's Conservation Department has enforced the Tribe's hunting regulations within those original reservation limits. The Oneida Tribe also has a good working relationship with the State of Wisconsin, and the majority of the seasons and limits are the same for the Tribe and Wisconsin.

For the 2022-23 season, the Tribe requested special migratory bird hunting regulations. For ducks, the Tribe requested a season during September 10 through December 4, 2022. The daily bag limit would be six ducks, which could include no more than three female mallards, two redheads, two pintails, and two hooded mergansers. The possession limit would be 24 ducks in the aggregate.

For geese, the Tribe requested a season during September 1 and December 31, 2022, with a daily bag limit of 5 geese species (Canada/cackling geese, snow/blue geese, Ross's geese, and brant) and 20 in the aggregate. If 500 geese are harvested before the season concludes, the Tribe will recommend closing the season early.

For woodcock, the Tribe requested a season during September 1 through November 6, 2022, with a daily bag and possession limit of two and four, respectively.

For mourning dove, the Tribe requested a season during September 1 through November 6, 2022, with a daily bag and possession limit of 10 and 20, respectively.

Shooting hours would be one-half hour before sunrise to 15 minutes after sunset. Nontribal hunters hunting on the Reservation or on lands under the jurisdiction of the Tribe must comply with all State of Wisconsin regulations, including shooting hours of one-half hour before sunrise to sunset, season dates, and daily bag limits. Tribal members and nontribal hunters hunting on the Reservation or on lands under the jurisdiction of the Tribe must observe all basic Federal migratory bird hunting regulations found in 50 CFR part 20, with the following exceptions: Oneida members would be exempt from the purchase of the Duck Stamp; and shotgun capacity is not limited to three shells.

(q) Point No Point Treaty Council Tribes, Kingston, Washington (Tribal Members Only)

Point No Point Treaty Council Tribes (Council) consists of the Port Gamble S'Klallam Tribe and Jamestown S'Klallam Tribe. The two Tribes have reservations and ceded areas in northwestern Washington State and are the successors to the signatories of the Treaty of Point No Point of 1855. The requested special migratory bird hunting regulations for the 2022-23 season would apply to Tribal members both on and off reservations within the Point No Point Treaty Areas; however, the Port Gamble S'Klallam and Jamestown S'Klallam Tribal season dates differ only where indicated below.

The Council requested a duck, merganser, and coot season during September 1, 2022, through March 10, 2023. The daily bag limit would be seven ducks and mergansers. The daily bag and possession limits on harlequin ducks would be one per season. The daily bag limit for coots would be seven. Possession limits would be three times the daily bag limits.

For geese, the Council requested a season during September 1, 2022, through March 10, 2023. The daily bag limits for Canada/cackling geese, light geese, and white-fronted geese would be 5, 6, and 10, respectively. The Council notes that there is a year-round closure on dusky Canada geese. For brant, the Council proposes a season during January 1 through January 31, 2023, for the Port Gamble S'Klallam Tribe, and during January 15 through January 31, 2023, for the Jamestown S'Klallam Tribe. The daily bag limit for brant would be two. Possession limits would be three times the daily bag limits.

For band-tailed pigeons, the Council requested a season during September 15 through November 30, 2022. The daily bag limit would be two band-tailed pigeons. For snipe, the council requested a season during September 1, 2022, through March 10, 2023. The daily bag limit would be eight snipe. For mourning dove, the Council requested a season during September 1, 2022, through March 10, 2023. The daily bag limit would be 10 mourning doves. Possession limits would be three times the daily bag limits.

The Council anticipates a total harvest of fewer than 100 birds for the 2022-23 season. The Tribal fish and wildlife enforcement officers have the authority to enforce these Tribal regulations.

(r) Saginaw Tribe of Chippewa Indians, Mt. Pleasant, Michigan (Tribal Members Only)

The Saginaw Tribe of Chippewa Indians is a federally recognized, self-governing Indian Tribe, located on the Isabella Reservation lands bound by Saginaw Bay in Isabella and Arenac Counties, Michigan.

For ducks, merganser, and snipe, the Tribe requested a season during September 1, 2022, through January 31, 2023. The daily bag limit would be 20 ducks, which could include no more than five each of the following: female mallards, wood ducks, black ducks, pintail, redhead, scaup, and canvasbacks. The possession limit would be 40 ducks. The daily bag limit for mergansers would be 10, no more than 5 of which may be hooded mergansers, and for snipe would be 16.

For geese, coots, gallinules, soras, and Virginia rails, the Tribe requested a season during September 1, 2022, through January 31, 2023. The daily bag limit for geese would be 20. The daily bag limit for coots, gallinules, soras, and Virginia rails would be 20 in the aggregate.

For woodcock and mourning doves, the Tribe requested a season during September 1, 2022, through January 31, 2023, with daily bag limits of 10 and 25, respectively.

For sandhill cranes, the Tribe requested a season during September 1, 2022, through January 31, 2023, with a daily bag limit of one.

All Saginaw Tribe members exercising hunting treaty rights are required to comply with Tribal Ordinance 11. Hunting hours would be from one-half hour before sunrise to one-half hour after sunset. All other regulations in 50 CFR part 20 apply, including the use of only nontoxic shot for hunting waterfowl.

(s) Sauk-Suiattle Indian Tribe, Darrington, Washington (Tribal Members Only)

The Sauk-Suiattle Indian Tribe (SSIT) requested a 2022-23 hunting season on all open and unclaimed lands under the Treaty of Point Elliott of January 22, 1855. The Tribe's reservation is located in Darrington, Washington, just west of the North Cascade Mountain range in Skagit County on the Sauk and Suiattle Rivers. The Tribe owns and manages all the land on the reservation and some lands surrounding or near the reservation in Skagit and Snohomish Counties. All of the lands that are Tribal or reservation lands are closed for nontribal hunting, unless opened by an SSIT special regulation.

The Tribe requested a season for ducks, geese, brant, coots, mourning doves, and band-tailed pigeons during September 1, 2022, through March 10, 2023. The daily bag limit would be 20 ducks, 10 geese, 5 brant, and 25 coots. The daily bag limit for mourning doves and band-tailed pigeons would be 20 in the aggregate. The possession limit is two times the daily bag limits.

Hunting hours would be from one-half hour before sunrise to one-half hour after sunset. All other regulations in 50 CFR part 20 apply, including the use of only nontoxic shot for hunting waterfowl.

(t) Sault Ste. Marie Tribe of Chippewa Indians, Sault Ste. Marie, Michigan (Tribal Members Only)

The Sault Ste. Marie Tribe of Chippewa Indians is a federally recognized, self-governing Indian Tribe, distributed throughout the eastern Upper Peninsula and northern Lower Peninsula of Michigan. The Tribe has retained the right to hunt, fish, trap, and gather on the lands ceded in the Treaty of Washington (1836).

The Tribe requested special migratory bird hunting regulations for the 2022-23 season. For ducks, merganser, and snipe, the Tribe requested a season during September 1 through December 31, 2022. The daily bag limit would be 20 ducks, which could include no more than 10 mallards (5 female mallards), 5 wood ducks, 5 black ducks, and 5 canvasbacks. The daily bag limit for mergansers would be 10 and 20 in the aggregate, and for snipe 16 and 32 in the aggregate.

For geese, coots, gallinules, soras, and Virginia rails, the Tribe requested a season during September 1 through December 31, 2022. In addition, any portion of the ceded territory that is open to State-licensed hunters for goose hunting after December 31 will also be opened concurrently for Tribal members. The daily bag limit for geese would be 20. The daily bag limit for coots, gallinules, soras, and Virginia rails would be 20 in the aggregate.

For woodcock, the Tribe requested a season during September 2 through December 1, 2022, with daily bag and possession limits of 10 and 20, respectively.

For mourning doves, the Tribe requested a season during September 1 through November 14, 2022, with daily bag and possession limits of 10 and 20, respectively.

In 2020, the total estimated number of waterfowl hunters was 4,183, who harvested an estimated 3,504 ducks and 1,808 geese. All Sault Ste. Marie Tribe members exercising hunting treaty rights within the 1836 Ceded Territory are required to submit annual harvest reports including date of harvest, number and species harvested, and location of harvest. Shooting hours would be from one-half hour before sunrise to one-half hour after sunset. All other regulations in 50 CFR part 20 apply, including the use of only nontoxic shot for hunting waterfowl.

(u) Skokomish Tribe, Shelton, Washington (Tribal Members Only)

Since 1996, the Service and the Point No Point Treaty Tribes, of which the Skokomish Tribe was one, have cooperated to establish special regulations for migratory bird hunting. The Tribes have been acting independently since 2005. The Tribe has a reservation on the Olympic Peninsula in Washington State and is a successor to the signatories of the Treaty of Point No Point of 1855.

For the 2022-23 season, the Skokomish Tribe requested a duck and coot season during September 16, 2022, through February 28, 2023. The daily bag limit would be seven ducks, including no more than two female mallards, one pintail, one canvasback, and two redheads. The daily bag and possession limits for harlequin ducks would be one per season. The daily bag limit for coots would be 25. The possession limit would be two times the daily bag limits, except as noted above.

For geese, the Tribe requested a season during September 16, 2022, through February 28, 2023. The daily bag limit would be four, including no more than three light geese. The season on Aleutian Canada geese would be closed. For brant, the Tribe usually requests a season during November 1, 2022, through February 15, 2023, with a daily bag limit of two. The possession limits would be two times the daily bag limits.

For mourning doves, band-tailed pigeons, and snipe, the Tribe requested a season during September 16, 2022, through February 28, 2023, with a daily bag limit of 10, 2, and 8, respectively. The possession limits would be two times the daily bag limits.

All Tribal members authorized to hunt migratory birds are required to obtain a Tribal hunting permit from the Skokomish Tribe pursuant to Tribal law. Shooting hours would be from one-half hour before sunrise to sunset. Only steel, tungsten-iron, tungsten-polymer, tungsten-matrix, and tin shot are allowed for hunting waterfowl. It is unlawful to use or possess lead shot while hunting waterfowl.

The Tribe anticipates harvest to be fewer than 150 birds. The Skokomish Public Safety Office enforcement officers have the authority to enforce these migratory bird hunting regulations.

(v) Spokane Tribe of Indians, Spokane Indian Reservation, Wellpinit, Washington (Tribal Members Only)

The Spokane Indian Reservation is located in northeastern Washington State. The reservation comprises approximately 157,000 acres. The boundaries of the Reservation are the Columbia River to the west, the Spokane River to the south (now Lake Roosevelt), Tshimakain Creek to the east, and the 48th Parallel as the north boundary. Tribal membership comprises approximately 2,300 enrolled Spokane Tribal Members.

The Spokane Tribe of Indians requested special migratory bird hunting regulations that would allow Tribal Members, spouses of Spokane Tribal Members, and first-generation descendants of a Spokane Tribal Member with a Tribal permit and Federal Duck Stamp an opportunity to utilize the reservation and ceded lands for waterfowl hunting. These regulations would also benefit Tribal membership through access to this resource throughout Spokane Tribal ceded lands in eastern Washington. By Spokane Tribal Referendum, spouses of Spokane Tribal Members and children of Spokane Tribal Members not enrolled are allowed to harvest game animals within the Spokane Indian Reservation with the issuance of hunting permits.

The Tribe requested a duck season during September 2, 2022, through January 31, 2023. The daily bag and possession limits for ducks would be consistent with Federal frameworks for Washington.

The Tribe requested a goose season during September 2, 2022, through January 31, 2023. The daily bag limit and possession limit for geese would be consistent with Federal frameworks for Washington.

Based on the quantity of requests the Spokane Tribe of Indians has received, the Tribe anticipates harvest levels for the 2022-23 season for both ducks and geese to be fewer than 100 total birds, with goose harvest at fewer than 50. Hunter success will be monitored through mandatory harvest reports returned within 30 days of the season closure.

(w) Stillaguamish Tribe of Indians, Arlington, Washington (Tribal Members Only)

The Stillaguamish Tribe of Indians and the Service have cooperated to establish special regulations for migratory game birds since 2001. For the 2022-23 season, the Tribe requested regulations to hunt all open and unclaimed lands under the Treaty of Point Elliott of January 22, 1855, including their main hunting grounds around Camano Island, Skagit Flats, and Port Susan to the border of the Tulalip Tribes Reservation. Ceded lands are located in Whatcom, Skagit, Snohomish, and Kings Counties and a portion of Pierce County, Washington. The Stillaguamish Tribe of Indians is a federally recognized Tribe and reserves the Treaty Right to hunt (U.S. v. Washington).

The Tribe requested a duck (including merganser) and goose season during October 1, 2022, through March 10, 2023. The daily bag limit on ducks (including sea ducks and mergansers) would be 10 including no more than 7 mallards (3 of which may be female), 3 pintail, 3 redheads, 3 scaup, 4 hooded mergansers, and 3 canvasbacks. Possession limits would be two times the daily bag limits. For geese, the daily bag limits would be 6 Canada/cackling geese, 12 white-fronted geese, and 8 light geese. The possession limits would be three times the daily bag limits. The season on brant would be closed.

The Tribe requested a coot, snipe, and swan season during October 1, 2022, through January 31, 2023. The daily bag limit for coots would be 25 and for snipe would be 10. The possession limits would be two times the daily bag limits. The daily bag and possession limits for swans would be two per season. Swan hunters must have a swan hunting permit issued by the Tribe.

Harvest is regulated by a punch card system. Tribal members hunting on lands under this proposal will observe all basic Federal migratory bird hunting regulations found in 50 CFR part 20, which will be enforced by the Stillaguamish Tribal law enforcement. Tribal members are required to use steel shot or a nontoxic shot as required by Federal regulations.

The Tribe anticipates a total harvest of 200 ducks, 100 geese, 50 mergansers, 100 coots, and 100 snipe. Anticipated harvest includes subsistence and ceremonial needs. Certain species may be closed to hunting for conservation purposes, and consideration for the needs of certain species will be addressed.

(x) Swinomish Indian Tribal Community, LaConner, Washington (Tribal Members Only)

In 1996, the Service and the Swinomish Indian Tribal Community began cooperating to establish special regulations for migratory bird hunting. The Swinomish Indian Tribal Community is a federally recognized Indian Tribe consisting of the Swinomish, Lower Skagit, Samish, and Kikialous. The Swinomish Reservation was established by the Treaty of Point Elliott of January 22, 1855, and lies in the Puget Sound area north of Seattle, Washington.

For the 2022-23 season, the Tribal Community requested a migratory game bird hunting season on all areas that are open and unclaimed and consistent with the meaning of the treaty. The Tribe requested duck (including merganser), goose, coot, snipe, brant, mourning dove, and band-tailed pigeon seasons during September 1, 2022, through March 10, 2023. The daily bag limits would be 20 ducks, 10 geese, 5 brant, 25 coots, 15 snipe, 15 mourning doves, and 3 band-tailed pigeons. The possession limits would be two times the daily bag limits, except that the possession limit for coots would be three times the daily bag limit.

Shooting hours would be 30 minutes before official sunrise until 30 minutes after official sunset. Lead shot is prohibited.

The Community anticipates that the regulations will result in the harvest of approximately 600 ducks and 200 geese. The Swinomish utilize a report card and permit system to monitor harvest and will implement steps to limit harvest where conservation is needed. All Tribal regulations will be enforced by Tribal fish and game officers.

(y) The Tulalip Tribes of Washington, Tulalip Indian Reservation, Marysville, Washington (Tribal Members Only)

The Tulalip Tribes are the successors in interest to the Tribes and bands signatory to the Treaty of Point Elliott of January 22, 1855. The Tulalip Tribes' government is located on the Tulalip Indian Reservation just north of the City of Everett in Snohomish County, Washington. The Tribes or individual Tribal members own all of the land on the reservation, and they have full wildlife management authority. All lands within the boundaries of the Tulalip Tribes Reservation are closed to nonmember hunting unless opened by Tulalip Tribal regulations.

For ducks, mergansers, coots, and snipe, the Tribe requested seasons for Tribal members during September 1, 2022, through February 28, 2023. Daily bag and possession limits would be 15 and 30 ducks, respectively, except that for blue-winged teal, canvasbacks, harlequin ducks, pintail, and wood ducks, the bag and possession limits would be the same as those established in accordance with Federal frameworks for Washington. For coots, the daily bag and possession limits would be 25 and 75, respectively, and for snipe 8 and 24, respectively. Ceremonial hunting may be authorized by the Department of Natural Resources at any time upon application of a qualified Tribal member. Such a hunt must have a bag limit designed to limit harvest only to those birds necessary to provide for the ceremony.

For geese, the Tribe requested a season during September 1, 2022, through February 28, 2023. The daily bag and possession limits would be 10 and 30 geese, respectively, except that the bag limits for cackling geese and dusky Canada geese would be those established in accordance with Federal frameworks for Washington. The daily bag and possession limits for brant are 5 and 10, respectively.

For mourning doves, and band-tailed pigeon, the Tribe requested a season during September 1, 2022, through February 28, 2023. For mourning doves, the daily bag and possession limits would be 15 and 45, respectively. For band-tailed pigeon, the daily bag and possession limits would be 4 and 12, respectively.

All hunters on Tulalip Tribal lands are required to adhere to shooting hour regulations set at one-half hour before sunrise to sunset, use of federally approved nontoxic shot, special Tribal permit requirements, and a number of other Tribal regulations enforced by the Tribe. Each nontribal hunter 16 years of age and older hunting pursuant to Tulalip Tribes' Ordinance No. 67 must possess a valid Federal Duck Stamp and a valid State of Washington Migratory Waterfowl Stamp. Each hunter must validate stamps by signing across the face.

Although the season length requested by the Tulalip Tribes appears to be quite liberal, harvest information indicates a total take by Tribal and nontribal hunters of fewer than 1,000 ducks and 500 geese annually.

(z) Upper Skagit Indian Tribe, Sedro Woolley, Washington (Tribal Members Only)

The Upper Skagit Indian Tribe and the Service have cooperated to establish special regulations for migratory game birds since 2001. The Tribe has jurisdiction over lands within Skagit, Island, and Whatcom Counties, Washington. The Tribe issues Tribal hunters a harvest report card that will be shared with the State of Washington.

For the 2022-23 season, the Tribe requested a duck season during October 1, 2022, through February 28, 2023. The daily bag and possession limits would be 15 and 20 ducks, respectively. The Tribe requests a coot season during October 1, 2022, through February 15, 2023. The daily bag and possession limits would be 20 and 30 coots, respectively.

The Tribe requested a goose season during October 1, 2022, through February 28, 2023. The daily bag and possession limits would be 7 and 10 geese, respectively. For brant, the Tribe requested a season during November 1 through 10, 2022, with a daily bag and possession limit of two brant.

The Tribe requested a mourning dove season during September 1 through December 31, 2022. The daily bag and possession limits would be 12 and 15 mourning doves, respectively.

The anticipated migratory bird harvest would be 100 ducks, 5 geese, 2 brant, and 10 coots. Tribal members must have the Tribal identification and Tribal harvest report card on their person to hunt. Tribal members hunting on the Reservation will observe all basic Federal migratory bird hunting regulations found in 50 CFR part 20, except shooting hours would be 15 minutes before official sunrise to 15 minutes after official sunset.

(aa) Ute Indian Tribe of the Uintah and Ouray Reservation (Tribal Members Only)

The Ute Indian Tribe of the Uintah and Ouray Reservation is a self-governing, federally recognized Tribe located in Northeastern Utah. The Ute Indian Tribe of the Uintah and Ouray Reservation is the second largest Indian Reservation in the United States and covers over 4.5 million acres. The Ute Indian Tribe started coordination with the Service in 2021 for special migratory bird hunting regulations. The Service and the Tribe have cooperatively established migratory bird hunting regulations for sandhill cranes and swans (tundra and incidental trumpeter) for the 2022-23 season. The Tribe does hunt other migratory game birds but follows the State of Utah (Uintah and Duchesne Counties) for seasons and bag limits except for in some cases where the Tribe may be more restrictive.

The Tribe requests authorization to issue 10 sandhill crane hunting permits to Tribal members only and a sandhill crane hunting season with an opening and closing date consistent with the State of Utah's earliest and latest sandhill crane hunting dates for the State. The bag and possession limit would be one sandhill crane per member/permit.

The Tribe requests authorization to issue five swan (tundra/trumpeter) hunting permits to Tribal members only and a swan season during dates consistent with the State of Utah swan season dates. The bag and possession limit would be one swan per member/permit. The Tribe will require all swan hunters to successfully complete an educational course on swan identification and conservation to minimize take of trumpeter swans during the swan season. All hunters that harvest a swan must have the swan or species-determinant parts examined by a biologist or other designated representative of the Tribe within 72 hours of harvest for species determination. The Tribe will evaluate hunter participation, species-specific swan harvest, and hunter compliance in providing species-determinant parts (at least the intact head) of harvested swans for species identification. The Tribe will use appropriate measures to maximize hunter compliance with the Tribe's program for swan harvest reporting. The Tribe will provide to the Service by June 30 following the swan season a report detailing hunter participation, species-specific swan harvest, and hunter compliance in reporting harvest.

The following restrictions are also proposed by the Tribe: No rifles, revolvers, pistols, or shotgun pellets larger than #2 birdshot may be used in pursuit of migratory game birds. Only Service-approved nontoxic shot may be used to take migratory game birds. No baiting is allowed, including no take of sandhill cranes on or over lands where standing crops have been manipulated to distribute or scatter grain or other feed on the land where it was grown. For additional information, see the Ute Indian Tribes General Hunting Regulations.

(bb) White Earth Band of Ojibwe, White Earth, Minnesota (Tribal Members Only)

The White Earth Band of Ojibwe is a federally recognized Tribe located in northwest Minnesota and encompasses all of Mahnomen County and parts of Becker and Clearwater Counties. The reservation employs conservation officers to enforce migratory bird regulations. The Tribe and the Service first cooperated to establish special Tribal regulations in 1999.

The White Earth Band of Ojibwe requested a duck season during September 10 through December 11, 2022. The daily bag limit would be 10 ducks, including no more than 2 female mallards, 2 pintail, and 2 canvasbacks. For mergansers, the Tribe requested a season during September 10 through December 11, 2022. The daily bag limit would be five, no more than two of which may be hooded mergansers. For geese, the Tribe requested an early season during September 1 through 23, 2022, and a late season during September 24 through December 18, 2022. The daily bag limits would be 10 geese in the early season and 7 geese in the late season.

For coots, the Tribe requested a season during September 1 through November 30, 2022, with a daily bag limit of 20. For snipe, woodcock, rails, and mourning doves, the Tribe requested seasons during September 1 through November 30, 2022, with daily bag limits of 10, 10, 25, and 25, respectively. Shooting hours are one-half hour before sunrise to one-half hour after sunset. Nontoxic shot is required.

Based on past harvest surveys, the Tribe anticipates harvest of 1,000 to 2,000 Canada/cackling geese and 1,000 to 1,500 ducks. The White Earth Reservation Tribal Council employs four full-time conservation officers to enforce migratory bird regulations.

(cc) White Mountain Apache Tribe, Fort Apache Indian Reservation, Whiteriver, Arizona (Tribal Members and Nontribal Hunters)

The White Mountain Apache Tribe owns all associated reservation lands, and the Tribe has recognized full wildlife management authority.

The hunting zone for waterfowl is restricted and is described as: The length of the Black River west of the Bonito Creek and Black River confluence and the entire length of the Salt River forming the southern boundary of the reservation; the White River, extending from the Canyon Day Stockman Station to the Salt River; and all stock ponds located within Wildlife Management Units 4, 5, 6, and 7. Tanks located below the Mogollon Rim, within Wildlife Management Units 2 and 3, will be open to waterfowl hunting during the 2022-23 season. The length of the Black River east of the Black River/Bonito Creek confluence is closed to waterfowl hunting. All other waters of the reservation would be closed to waterfowl hunting for the 2022-23 season.

For nontribal and Tribal members, the Tribe requested duck (except scaup), coot, merganser, gallinule, and moorhen hunting seasons during October 15, 2022, through January 22, 2023. For scaup, the Tribe requested a season during November 5, 2022, through January 22, 2023. The daily bag limit would be seven ducks (including merganser), which may include no more than two redheads, one pintail, two scaup (when open), two female mallards, and two canvasbacks. The daily bag limit for coots and gallinules would be 25 in the aggregate.

For Canada/cackling geese, the Tribe requested a season during October 15, 2022, through January 22, 2023. The daily bag and possession limits would be three and six Canada/cackling geese, respectively.

Seasons for band-tailed pigeons and mourning doves are closed.

Possession limits are two times the daily bag limits. Shooting hours would be from one-half hour before sunrise to sunset. There would be no open season for sandhill cranes, rails, and snipe on the White Mountain Apache lands under this proposal.

A number of special regulations apply to Tribal and nontribal hunters, which may be obtained from the White Mountain Apache Tribe Game and Fish Department.

Public Comments

The Department of the Interior's policy is, whenever possible, to afford the public an opportunity to participate in the rulemaking process. Accordingly, we invite interested persons to submit written comments, suggestions, or recommendations regarding the proposed regulations. Before promulgating final migratory game bird hunting regulations, we will consider all comments we receive. These comments, and any additional information we receive, may lead to final regulations that differ from these proposals.

You may submit your comments and materials concerning this proposed rule by one of the methods listed in ADDRESSES. We will not accept comments sent by email or fax. We will not consider mailed comments that are not postmarked by the date specified in DATES.

We will post all comments in their entirety—including your personal identifying information—on https://www.regulations.gov. Before including your address, phone number, email address, or other personal identifying information in your comment, you should be aware that your entire comment—including your personal identifying information—may be made publicly available at any time. While you can ask us in your comment to withhold your personal identifying information from public review, we cannot guarantee that we will be able to do so.

Comments and materials we receive, as well as supporting documentation we used in preparing this proposed rule, will be available for public inspection on https://www.regulations.gov, or by appointment, during normal business hours, at the U.S. Fish and Wildlife Service, Division of Migratory Bird Management, 5275 Leesburg Pike, Falls Church, VA 22041-3803.

We will consider, but possibly may not respond in detail to, each comment. As in the past, we will summarize all comments we receive during the comment period and respond to them after the closing date in the preamble of a final rule.

Required Determinations

Based on our most current data, we are affirming our required determinations made in the August 31, 2021, proposed rule (86 FR 48649); please see that document for descriptions of our actions to ensure compliance with the following statutes and Executive Orders:

• National Environmental Policy Act;

• Endangered Species Act;

• Regulatory Flexibility Act;

• Small Business Regulatory Enforcement Fairness Act;

• Unfunded Mandates Reform Act;

• Executive Orders 12630, 12866, 12988, 13132, 13175, 13211, and 13563.

Paperwork Reduction Act

This proposed rule contains existing information collections. All information collections require approval under the Paperwork Reduction Act of 1995 (PRA, 44 U.S.C. 3501 et seq.). We may not conduct or sponsor and you are not required to respond to a collection of information unless it displays a currently valid Office of Management and Budget (OMB) control number. The OMB has reviewed and approved the information collection requirements associated with establishing annual migratory bird hunting seasons and migratory bird surveys and assigned the following OMB control numbers:

• 1018-0171, “Establishment of Annual Migratory Bird Hunting Seasons, 50 CFR part 20” (expires 10/31/2024);

• 1018-0019, “North American Woodcock Singing Ground Survey” (expires 2/29/2024); and

• 1018-0023, “Migratory Bird Surveys, 50 CFR 20.20” (expires 4/30/2023).

List of Subjects in 50 CFR Part 20

Exports, Hunting, Imports, Reporting and recordkeeping requirements, Transportation, Wildlife.

Authority

The rules that eventually will be promulgated for the 2022-23 hunting season are authorized under 16 U.S.C. 703-712 and 16 U.S.C. 742 a-j.

Shannon Estenoz,
Assistant Secretary for Fish and Wildlife and Parks.

[FR Doc. 2022-12754 Filed 6-13-22; 8:45 am]

BILLING CODE 4333-15-P